DEPARTMENT OF HEALTH AND HUMAN SERVICES

Health Resources and Services Administration

Notice of Meeting of the Advisory Committee on Organ Transplantation

AGENCY: Health Resources and Services Administration, HHS.

ACTION: Notice of Meeting of the Advisory Committee on Organ Transplantation.

SUMMARY: Pursuant to Public Law 92-463, the Federal Advisory Committee Act, as amended (5 U.S.C. Appendix 2), notice is hereby given of the fourteenth meeting of the Advisory Committee on Organ Transplantation (ACOT), Department of Health and Human Services (HHS). The meeting will be held from approximately 8:30 a.m. to 5 p.m. on November 13, 2008, and from 8:30 a.m. to 3 p.m. on November 14, 2008, at the Hilton Washington DC/Rockville Executive Meeting Center, 1750 Rockville Pike, Rockville, MD 20852. The meeting will be open to the public; however, seating is limited and pre-registration is encouraged (see below).

SUPPLEMENTARY INFORMATION: Under the authority of 42 U.S.C. 217a, Section 222 of the Public Health Service Act, as amended, and 42 CFR 121.12 (2000), ACOT was established to assist the Secretary in enhancing organ donation, ensuring that the system of organ transplantation is grounded in the best available medical science, and assuring the public that the system is as effective and equitable as possible, and, thereby, increasing public confidence in the integrity and effectiveness of the transplantation system. ACOT is composed of up to 25 members, including the Chair. Members are serving as Special Government Employees and have diverse backgrounds in fields such as organ donation, health care public policy, transplantation medicine and surgery, critical care medicine and other medical specialties involved in the identification and referral of donors, non-physician transplant professions, nursing, epidemiology, immunology, law and bioethics, behavioral sciences, economics and statistics, as well as representatives of transplant candidates, transplant recipients, organ donors, and family members.

ACOT will hear presentations on the Report on New York State Transplant Council's Committee on Quality Improvement in Living Kidney Donation; Organ Procurement Organization Quality Assessment/Performance; Status of OPTN Living Donor Follow Up; Risks for Disease Transmission; Factors Affecting Future Donor Potential; Reimbursement and the Changing Nature of the Donor Pool; Projected Growth in End-Stage Renal Disease and Implications for Future Demand for Kidney Transplants; Economic Impact of Transplantation; and Briefing on OPTN White Paper on Charges for Pancreata Recovered for Islet Transplantation. The three ACOT work groups also will update the full Committee on their deliberations on living donor advocacy and post-donation complications, sources of funding for additional data collection, and reducing pediatric deaths on the waitlist.

The draft meeting agenda will be available on October 31 on the Department's donation Web site at http://www.organdonor.gov/acot.html.

A registration form will be available on or about October 15. Registration can be completed electronically at http://www.team-psa.com/dot/acot2008/. Registration also can be completed through the Department's donation Web site at http://www.organdonor.gov/acot.html. The completed registration form should be submitted by facsimile to Professional and Scientific Associates (PSA), the logistical support contractor for the meeting, at fax number (703) 234-1701. Individuals without access to the Internet who wish to register may call Sowjanya Kotakonda with PSA at (703) 234-1737. Individuals who plan to attend the meeting and need special assistance, such as sign language interpretation or other reasonable accommodations, should notify the ACOT Executive Secretary, Remy Aronoff, in advance of the meeting. Mr. Aronoff may be reached by telephone at 301-443-3300, e-mail: remy.aronoff@hrsa.hhs.gov or in writing at the address provided below. Management and support services for ACOT functions are provided by the Division of Transplantation, Healthcare Systems Bureau, Health Resources and Services Administration, 5600 Fishers Lane, Parklawn Building, Room 12C-06, Rockville, Maryland 20857; telephone number 301-443-7577.

After the presentations and ACOT discussions, members of the public will have an opportunity to provide comments. Because of the Committee's full agenda and the timeframe in which to cover the agenda topics, public comment will be limited. All public comments will be included in the record of the ACOT meeting.

Dated: September 23, 2008.
Elizabeth M. Duke,
Administrator.

[FR Doc. E8-22821 Filed 9-29-08; 8:45 am]

BILLING CODE 4165-15-P